DEPARTMENT OF THE INTERIOR

National Park Service

[2253-665]

Notice of Inventory Completion: Florida Department of State/Division of Historical Resources, Tallahassee, FL

AGENCY: National Park Service, Interior.

ACTION: Notice.

SUMMARY: The Florida Department of State/Division of Historical Resources has completed an inventory of human remains, in consultation with the appropriate Indian tribes, and has determined that there is no cultural affiliation between the human remains and any present-day Indian tribe. Representatives of any Indian tribe that believes itself to be culturally affiliated with the human remains may contact the Florida Department of State/Division of Historical Resources. Disposition of the human remains to the Indian tribe stated below may occur if no additional requestors come forward.

DATES: Representatives of any Indian tribe that believes it has a cultural affiliation with the human remains should contact the Florida Department of State/Division of Historical Resources at the address below by July 21, 2011.

ADDRESSES: Ryan J. Wheeler, State Archaeologist, Florida Department of State/Division of Historical Resources, 1001 de Soto Park Dr. Tallahassee, FL 32301, telephone (850) 245-6301.

SUPPLEMENTARY INFORMATION: Notice is here given in accordance with the Native American Graves Protection and Repatriation Act (NAGPRA), 25 U.S.C. 3003, of the completion of an inventory of human remains in the possession of the Florida Department of State/Division of Historical Resources, Tallahassee, FL. The human remains were removed from Alachua, Miami-Dade, Duval, and Sumter Counties, FL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florida Department of State/Division of Historical Resources professional staff in consultation with representatives of the Miccosukee Tribe of Indians of Florida. Requests for consultation were also sent to the Muscogee (Creek) Nation, Oklahoma; Poarch Band of Creek Indians of Alabama; Seminole Nation of Oklahoma; and the Seminole Tribe of Florida (Dania, Big Cypress, Brighton, Hollywood & Tampa Reservations). The Miccosukee Tribe of Indians of Florida requested that the remains described in this notice be transferred to their control so that reburial can occur at or near the original areas of removal. There are no objections to the disposition to the Miccosukee Tribe of Indians of Florida by the other Indian tribes contacted by Florida Department of State/Division of Historical Resources.

History and Description of the Remains

In October and November 2006, human remains representing a minimum of one individual were removed from site 8AL832, in Alachua County, FL. Archeological site 8AL832 is described as a dense scatter of lithic and ceramic artifacts, associated with the pre-European contact Native American Alachua and St. Johns cultures of the area (circa A.D. 700 to 1500). The remains were found during archeological monitoring during the development of Ficke Gardens at the University of Florida. The archeologists that found the remains contacted the State Archaeologist. Based on consultation with the State Archaeologist, the district medical examiner was asked to investigate the discovery. The district medical examiner, with assistance from the C.A. Pound Human Identification Laboratory and Dr. John Krigbaum, University of Florida, Department of Anthropology, determined that the remains were Native American. On August 11, 2008, the remains were transferred to the Florida Department of State/Division of Historical Resources. The remains of this individual are 12 bone and tooth fragments. No known individual was identified. No associated funerary objects are present.

In June 2007, human remains representing a minimum of two individuals were removed from site 8DA5918 at the White Rock Mine, in Miami-Dade County, FL. Archeological site 8DA5918 is described as a multi-component black earth midden deposit on a relict Everglades tree island, associated with the Archaic and Glades cultures of the area. The human remains are believed to be from the Glades period (circa 500 B.C. to A.D. 1500). The remains of these two individuals are 28 bone and tooth fragments. No known individuals were identified. No associated funerary objects are present.

In March 2005, human remains representing a minimum of one individual were removed from site 8DU276, in Duval County, FL. Archeological site 8DU276 is described as a deep black earth midden with material dating from several periods, dominated by the pre-European contact Native American St. Johns II culture of the area (circa A.D. 900 to 1250). The area where the human remains were found may be a remnant burial mound or cemetery. The remains of this individual were transferred by the consulting archeologist to the Florida Department of State/Division of Historical Resources for identification pending reburial. Additional remains were located in the same area during subsequent investigation by another archeological consultant, but left in place. No known individual was identified. No associated funerary objects are present.

In July 2008, human remains representing a minimum of two individuals were removed from site 8SM186, in Sumter County, FL. Archeological site 8SM186 is described as having both pre-European contact Native American Middle Archaic and Weeden Island cultural deposits (circa A.D. 200 to 900). The remains were transferred to the Florida Department of State/Division of Historical Resources by the Sumter County Sheriff's Office and the district medical examiner. The remains of these individuals are 20 bone and tooth fragments. No known individuals were identified. No associated funerary objects are present.

Determinations Made by the Florida Department of State/Division of Historical Resources

Officials of the Florida Department of State/Division of Historical Resources have determined that:

• Pursuant to 25 U.S.C. 3001(9), the human remains described above represent the physical remains of six individuals of Native American ancestry.

• Pursuant to 25 U.S.C. 3001(2), a relationship of shared group identity cannot be reasonably traced between the Native American human remains and any present-day Indian tribe.

• According to final judgments of the Indian Claims Commission, the land from which the Native American human remains were removed is the aboriginal land of the Miccosukee Tribe of Indians of Florida, Seminole Nation of Oklahoma, and the Seminole Tribe of Florida.

• Pursuant to 43 CFR 10.11(c)(1), the disposition of the human remains is to the Miccosukee Tribe of Indians of Florida.

Additional Requestors and Disposition

Representatives of any Indian tribe that believes itself to be culturally affiliated with the human remains or any other Indian tribe that believes it satisfies the criteria in 43 CFR 10.11(c)(1) should contact Ryan J. Wheeler, State Archaeologist, Florida Department of State/Division of Historical Resources, 1001 de Soto Park Dr., Tallahassee, FL 32301, telephone (850) 245-6301, before July 21, 2011. Disposition of the human remains to the Miccosukee Tribe of Indians of Florida may proceed after that date if no additional requestors come forward.

The Florida Department of State/Division of Historical Resources is responsible for notifying the Miccosukee Tribe of Indians of Florida; Muscogee (Creek) Nation, Oklahoma; Poarch Band of Creek Indians of Alabama; Seminole Nation of Oklahoma; and the Seminole Tribe of Florida that this notice has been published.

Dated: June 15, 2011.
Sherry Hutt,
Manager, National NAGPRA Program.

[FR Doc. 2011-15440 Filed 6-20-11; 8:45 am]

BILLING CODE 43120-50-P